ENVIRONMENTAL PROTECTION AGENCY

[EPA-HQ-OPPT-2019-0075; FRL-9991-68]

Certain New Chemicals; Receipt and Status Information for February 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 02/01/2019 to 02/28/2019.

DATES: Comments identified by the specific case number provided in this document must be received on or before June 7, 2019.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

What action is the Agency taking?

This document provides the receipt and status reports for the period from 02/01/2019 to 02/28/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995 (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 02/01/2019 to 02/28/2019
Case No. | Version | Received date | Manufacturer | Use | Chemical substance
J-19-0017 | 1 | 2/1/2019 | Danisco US, Inc | (G) Production of a chemical substance | (G) Genetically modified microorganism for the production of a chemical substance.
P-16-0541A | 4 | 1/21/2019 | Specialty Organics, Inc | (S) Adhesive for wood particle/chip/fiberboard | (S) Soybean meal, reaction products with phosphoric trichloride.
P-16-0584A | 5 | 12/17/2018 | CBI | (G) Additive used to impart specific physicochemical property(ies) to finished articles | (G) Multi-walled carbon nanotubes.
P-16-0585A | 5 | 12/17/2018 | CBI | (G) Additive used to impart specific physicochemical property(ies) to finished articles | (G) Multi-walled carbon nanotubes.
P-16-0586A | 5 | 12/17/2018 | CBI | (G) Additive used to impart specific physicochemical property(ies) to finished articles | (G) Multi-walled carbon nanotubes.
P-17-0322A | 6 | 12/18/2018 | CBI | (G) Auxiliary drier, has little drying action in itself but is very useful in combination with active driers. In vehicles that show poor tolerance for lead, calcium can replace part of the lead with a larger amount of calcium to prevent the precipitation of the lead & maintain drying efficiency. Calcium is also useful as pigment wetting & dispersing agents & help to improve hardness & gloss & reduce “Silkins.” When ground with drier adsorbing pigments, calcium minimizes loss of dry by being preferentially absorbed | (G) Zinc naphthenate complexes.
P-18-0007A | 2 | 12/17/2018 | Nexoleum USA Corp | (S) Used as a plasticizer/stabilizer for flexible PVC | (S) Glycerides, soya mono- and di-, epoxidized, acetates.
P-18-0008A | 2 | 12/17/2018 | Nexoleum USA Corp | (S) Used as a plasticizer/stabilizer for flexible PVC | (S) Glycerides, C16-18 and C18-unsatd. mono- and di-, epoxidized, acetates.
P-18-0012A | 3 | 12/17/2018 | CBI | (G) Adhesives | (G) Polyester polyol.
P-18-0020A | 4 | 2/1/2019 | Myriant Corporation | (G) Industrial coating | (S) Butanediolic acid, polyol with 2-ethyl-2-(hydroxymethyl)-1,3-propanediol, 2,5-Furandione and 1,3-propanediol, 3a,4,5,6,7,7a-hexahydro-4,7-methano-1H-inden-5(or 6)-yl ester.
P-18-0060A | 4 | 1/8/2019 | Eastman Chemical Company, Inc | (S) Surfactant for Liquid Dish; (S) Surfactant for Liquid Laundry; (S) Surfactant for Industrial Hand Wash; (S) FDA related uses; (S) Export only volume of the TSCA manufactured NCS | (S) 1-Butanaminium, 4-amino-N-(2-hydroxy-3-sulfopropyl)-N, N-dimethyl-4-oxo-, N-coco alkyl derivs., inner salts.
P-18-0070A | 9 | 12/18/2018 | ArrowStar, LLC | (G) Chemical intermediate for polyurethane industry | (G) Waste plastics, polyester, depolymd. with glycols, polymers with dicarboxylic acids.
P-18-0073A | 5 | 12/19/2018 | Earth Science Laboratories | (G) Non-Pesticide Agricultural Use Chemical; (S) FIFRA Inert ingredient; (S) Anti-scalant; (S) Chlorine stabilizer | (S) Sulfuric acid, ammonium salt (1:?).
P-18-0107A | 2 | 12/13/2018 | Lanxess Corporation | (S) Hydrolysis stabilizer | (G) Alcohol capped polycarbodiimide from diethyldiisocyanatobenzene.
P-18-0162A | 5 | 12/27/2018 | CBI | (G) Adhesive component | (G) Cashew nutshell liquid, polymer with diisocyanatoalkane, substituted-polyoxyalkyldiol and polyether polyol.
P-18-0176A | 3 | 2/6/2019 | CBI | (G) Industrial coating | (G) 5-Isobenzofurancarboxylic acid, 1,3-dihydro-1,3-dioxo-, polymer with aminoalcohol, 2,2-dimethyl-1,3-propanediol, 2,5-furandione, polyalkylene glycol and unsaturated anhydride.
P-18-0257A | 2 | 1/29/2019 | Everris NA, Inc | (S) Inorganic Fertilizer | (S) Phosphoric acid, potassium salt (2:3).
P-18-0303A | 3 | 1/10/2019 | CBI | (G) UV curable oligomer | (G) 2-Propenoic acid, polymer with aliphatic cyclic epoxide.
P-18-0313A | 3 | 1/25/2019 | Ashland, Inc | (G) Adhesive | (G) Alkoxylated glycol ether with 1,2-propanediol, reaction products with alkyl alcohol blocked 1,1′-methylenebis [4-isocyanatobenzene] homopolymer and 1,1′-methylenebis [4-isocyanatobenzene].
P-18-0321A | 3 | 2/1/2019 | CBI | (G) Intermediate for use in chemical manufacture | (G) Poly(oxy-ethanediyl), (methyl ethanediyl)bis[hydroxy-.
P-18-0324A | 4 | 12/19/2018 | CBI | (S) Resin/binder in paint formulations for industrial and architectural applications | (G) Organic acid dimethyl ester, polymer with mixed alkanediols and 5-isocyanato-1-(isocyanatomethyl)-1,3,3-trimethylcyclohexane, trimethoxysilylalkylalkanamine-blocked.
P-18-0326 | 2 | 2/20/2019 | CBI | (G) Chemical Intermediate | (G) Alkanoic acid, alkyl ester, manuf. of, byproducts from, distn. residues.
P-18-0361A | 3 | 12/13/2018 | Lanxess, Solutions US Inc | (S) Electrophoretic paint | (S) Propanoic acid, 3-hydroxy-2-(hydroxymethyl)-2-methyl-, polymer with 1,3,5-tris(6-isocyanatohexyl)-1,3,5-triazine-2,4,6(1H,3H,5H)-trione, 3,5-dimethyl-1H-pyrazole-blocked.
P-18-0363A | 2 | 12/12/2018 | CBI | (G) Adhesive | (G) Phenol, polymer with formaldehyde, substituted phenol, sodium salts.
P-18-0365A | 4 | 1/9/2019 | CBI | (G) Superabsorbent polymer; (S) Manufacture for export only | (G) Starch, carboxymethyl ether, sodium salt, polymer with polycarboxylic acid.
P-18-0366A | 4 | 1/9/2019 | CBI | (G) Superabsorbent polymer; (S) Manufacture for export only | (G) Starch, carboxymethyl ether, sodium salt, polymer with mixed polycarboxylic acids.
P-18-0384A | 2 | 12/23/2018 | Sigma-Aldrich Co., LLC | (S) Starting material for manufacture of 6 Lithium chloride scintillation crystals for use in radiation detection | (S) Lithium 6.
P-18-0399A | 4 | 1/14/2019 | CBI | (G) Open, non-dispersive use additive for industrial use only | (G) Rosin adduct ester, polymer with polyols, compd. with ethanolamine.
P-18-0400A | 4 | 1/14/2019 | CBI | (G) Open, non-dispersive use, additive for textile industry | (G) Rosin adduct ester, polymer with polyols, potassium salt.
P-18-0406A | 2 | 12/13/2018 | CBI | (G) Initiator | (G) Formaldehyde, polymer with alkyl aryl ketones.
P-19-0002A | 4 | 12/19/2018 | CBI | (S) Chemical Intermediate | (G) Polyaromatic symmetrical tetracarboxylic acid.
P-19-0003A | 3 | 12/19/2018 | CBI | (S) Chemical Intermediate | (G) Polyaromatic ether symmetrical dicarboxylic anhydride.
P-19-0004A | 3 | 12/19/2018 | CBI | (G) Molded parts and components | (G) Aromatic dianhydride, polymer with aromatic diamine and heteroatom bridged aromatic diamine, reaction products with aromatic anhydride.
P-19-0006A | 3 | 12/19/2018 | CBI | (G) Rheology modifier | (G) Diisocyanate polymer blocked with alkoxyamine.
P-19-0008A | 3 | 12/12/2018 | Allnex USA Inc | (S) The PMN substance is an isolated intermediate incorporated as a component in several allnex coating resin products that are only applied by Cathodic Electrodeposition (CED) and used as additives for corrosion protection | (G) Substitued polyalkylenepolycarbomonocycle ester, polymer with dialkanolamine, (hydroxyalkoxy)carbonyl] derivs., (alkoxyalkoxy) alkanolblocked.
P-19-0020A | 3 | 1/30/2019 | CBI | (G) Lubricating additive | (G) Alkylphenol, reaction products with carbon dioxide, distn. residues from manuf. of alkylphenol derivs. and calcium alkylphenol derivs.
P-19-0023A | 2 | 12/14/2018 | Allnex USA Inc | (S) Powder coating resin for industrial application | (G) Substituted carbomonocyle, polymer with substituted carbomonocycles, dialkyl-alkanediol, alkyl-hydroxyalkyl-alkanediol and alkanedioic acid.
P-19-0038 | 2 | 2/4/2019 | Allan Chemical Corporation | (S) Ink carrier for the ceramic industries | (S) Fatty acids, coco, iso-Bu esters.
P-19-0039 | 4 | 2/11/2019 | CBI | (S) Stabilizer for PVC | (G) Phosphorous acid, P,P ′[substituted bis(alkyl-polyalkyl glycol)] Poly carbomonocycle substituted ester.
P-19-0040A | 2 | 1/3/2019 | CBI | (G) Intermediate | (G) Alkyl bis(dialkylamino alkyl) amide.
P-19-0048 | 2 | 1/30/2019 | CBI | (G) Coating additive | (S) Poly(oxy-1,2-ethanediyl), .alpha.-hydro-.omega.-hydroxy-, mono-C12-14-alkyl ethers, phosphates, sodium salts.
P-19-0049 | 1 | 1/28/2019 | Allnex USA Inc | (G) Isolated intermediate coating resin | (G) Fatty acids, polymers with substituted carbomonocycles, dialkanolamine, alkyl substituted alkanediamine and halo-substituted heteromonocycle, formates (salts).
P-19-0050 | 1 | 2/4/2019 | Kimes Technologies International, Inc | (S) Rust preventative | (S) Petrolatum (petroleum), oxidized, Bu ester.
P-19-0051 | 1 | 2/5/2019 | CBI | (G) UV curable inks | (G) 1,3-Propanediamine, N1,N1-dimethyl-, polymers with alkylene glycol ether with alkyltriol (3:1) mixed acrylates and adipates, and alkylene glycol monoacrylate ether with alkyltriol (3:1).
P-19-0052 | 2 | 2/8/2019 | Evonik Corporation | (S) Hard Surface Cleaner | (S) Poly(oxy-1,2-ethanediyl), alpha-nonyl-omega-hydroxy-, branched and linear.
P-19-0053 | 1 | 2/10/2019 | Wacker Chemical Corporation | (S) Used as a surface treatment, sealant, caulk, and coating for mineral building materials such as concrete, brick, limestone, and plaster, as well as on wood, metal and other substrates. Formulations containing the cross-linker provide release and anti-graffiti properties, water repellency, weather proofing, and improved bonding in adhesive/sealant applications. The new substance is a moisture curing cross-linking agent which binds/joins polymers together when cured. Ethanol is released during cure, and once the cure reaction is complete, the product will remain bound in the cured polymer matrix | (S) 1-Butanamine, N-butyl-N-[(triethoxysilyl)methyl]-.
P-19-0054 | 1 | 2/11/2019 | CBI | (G) automotive lubricant additive | (G) Polyamines, reaction products with succinic anhydride polyalkenyl derivs., metal salts.
P-19-0055 | 1 | 2/12/2019 | Rahn USA Corp | (S) The PMN is solely used as a photo initiator within UV curable coating/ink formulations. This photo initiator is starting the polymerization process during the UV curing process of the formulation. The curing is achieved by UV light only, no heat is applied. After curing, the PMN substance is no longer available for exposure or release | (S) 1,3-propanediol, 2-ethyl-2-(hydroxymethyl)-, polymer with oxirane, 4-(dimethylamino)benzoate.
P-19-0056 | 1 | 2/15/2019 | CBI | (G) The PMN substance will be imported as a raw material for manufacturing other aliphatic hydrocarbons | (G) Aliphatic hydrocarbons, C8-20-branched and linear.
P-19-0057 | 1 | 2/21/2019 | CBI | (G) Treatment chemical | (G) Alkanamine, [(Alkoxy)alkoxy]alkyl] alkyl.
P-19-0060 | 1 | 2/23/2019 | Neste Oil US, Inc | (G) The PMN substance will be used as fuel | (G) Aliphatic hydrocarbons, C8-18-branched and linear.
P-19-0061 | 1 | 2/23/2019 | Neste Oil US, Inc | (G) The PMN substance will be used as fuel | (G) Aliphatic hydrocarbons, C16-20-branched and linear.
P-19-0062 | 1 | 2/27/2019 | CBI | (G) Industrial solvent | (G) Hydrochlorofluoroolefin.
SN-18-0002A | 3 | 12/12/2018 | CBI | (G) Flame retardant for textile | (G) Phosphoramidic acid, carbomonocyclic-, diphenylester (accession number 261553).
SN-19-0003 | 1 | 1/10/2019 | CBI | (G) Automotive engine fluid additive | (G) Silicophosphonate—sodium silicate.
SN-19-0004A | 3 | 1/31/2019 | CBI | (S) A lubricating agent used in the production of automotive disc brakes | (G) Pitch coke.
* The term `Approved' indicates that a submission has passed a quick initial screen ensuring all required information and documents have been provided with the submission prior to the start of the 90 day review period, and in no way reflects the final status of a complete submission review.

In Table II. of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 02/01/2019 to 02/28/2019
Case No. | Received date | Commencement date | If amendment, type of amendment | Chemical substance
J-16-0021 | 12/18/2018 | 12/4/2018 | N | (G) Modified trichoderma reesei.
J-18-0026 | 12/21/2018 | 11/30/2018 | N | (G) Biopolymer producing modified microorganism(s), with chromosomally-borne modifications.
J-18-0027 | 12/21/2018 | 12/7/2018 | N | (G) Biopolymer producing modified microorganism(s), with chromosomally-borne modifications.
J-18-0044 | 12/21/2018 | 11/26/2018 | N | (S) Saccharomyces cerevisae ne095.
J-18-0046 | 2/14/2019 | 2/12/2019 | N | (G) Genetically modified microorganism.
J-19-0003 | 1/15/2019 | 1/5/2019 | N | (G) Strain 2 genetically modified microorganism.
P-08-0431 | 2/12/2019 | 1/26/2019 | N | (S) Propane, 2,2-bis(methylthio)-.
P-14-0443 | 1/23/2019 | 12/24/2018 | N | (G) Alkane-alpha,omega-diyl bis{[(trimethoxysilyl)propyl]carbamate}.
P-14-0519 | 2/15/2019 | 2/6/2019 | N | (S) Siloxanes and silicones, di-me, hydrolysis products with dichloroethenylmethylsilane, 3-[2-(2-methoxyethoxy)ethoxy]propyl group terminated.
P-15-0178 | 1/23/2019 | 1/21/2019 | N | (G) Long chain aliphatic acid polymers, with adipic acid, di-meterephthalate, alkane acid, aromatic isocyanate and neopentyl glycol.
P-16-0150 | 12/20/2018 | 11/29/2018 | N | (G) Chlorofluorocarbon.
P-16-0173A | 12/20/2018 | 6/6/2016 | Update CBI substantiation for site | (G) Aminoalkyl alaninate sodium salt (1:1), polymer with alkyldiol, dialkyl-alkanediol, alkyldioic acid, alkyldiol, polyol, cycloaliphatic diisocyanate, polyalkylene glycol mono-alkyl ether-blocked.
P-16-0366A | 2/27/2019 | 11/28/2017 | Update CBI substantiation for manufacturing plant site, submitter and technical contact | (G) Isocyanic acid, polymethylenepolyphenylene ester, polymer with alkanolamine and alkylcarbonate, alkoxyethanol-blocked.
P-16-0514 | 1/22/2019 | 1/16/2019 | N | (G) Mixed metal oxide.
P-16-0575 | 1/7/2019 | 1/3/2019 | N | (S) Glucosyltransferase.
P-16-0581 | 1/24/2019 | 1/22/2019 | N | (G) Polysaccharide.
P-16-0592 | 2/25/2019 | 2/25/2019 | N | (S) Fatty acids, C8-C10, diesters with alpha-hydro-omega-hydroxypoly(oxy-1,4-butanediyl).
P-17-0014 | 2/25/2019 | 2/25/2019 | N | (S) Fatty acids, C8-C10, mixed esters with c18-unsatd. fatty acid dimers and alpha-hydro-omega-hydroxypoly(oxy-1,4-butanediyl).
P-17-0261 | 1/22/2019 | 12/11/2018 | N | (S) Benzoylbenzoate, esters with branched polyols.
P-17-0261A | 2/12/2019 | 12/11/2018 | Specific chemical name updated | (S) Poly(oxy-1,2-ethanediyl),alpha-(2-benzoylbenzoyl)-omega-[(2-benzoylbenzoyl)oxy]-.
P-17-0261A | 2/27/2019 | 12/11/2018 | Specific name CAS number updated | (S) Poly(oxy-1,2-ethanediyl),alpha-(2-benzoylbenzoyl)-omega-[(2-benzoylbenzoyl)oxy]-.
P-17-0320 | 1/17/2019 | 1/15/2019 | N | (G) Dodecanedioic acid and 1,6-hexane diol polymer with 3-hydroxy-2,2-dimethylpropyl 2,2-dimethylhydracrylate, neopentylglycol, 1,2 ethanediol, adipic acid, isophthalic acid, terephthalic acid, 2-oxooxopane, bayflex 2002h and 1,1′-methylenebis[isocyanatobenzene].
P-18-0068 | 1/2/2019 | 12/21/2018 | N | (G) Metal, alkylcarboxylate oxo complexes.
P-18-0077 | 1/11/2019 | 12/18/2018 | N | (S) Urea, reaction products with N-butylphophorothioic triamide and formaldehyde.
P-18-0082 | 2/6/2019 | 1/9/2019 | N | (G) Aspartic acid, tallow modified diester.
P-18-0088 | 1/3/2019 | 1/2/2019 | N | (G) Quaternary ammonium salt.
P-18-0116 | 1/7/2019 | 12/18/2018 | N | (S) Castor oil, reaction products with soybean oil.
P-18-0224 | 1/9/2019 | 12/13/2018 | N | (G) Alkenoic acid, polymer with alkenylcarbomonocycle, [alkanediylbis(substitutedalkylene)] bis[heteromonocycle] and (alkylalkenyl) aromatic, salt.
P-18-0225 | 1/9/2019 | 12/13/2018 | N | (G) Alkenoic acid, polymer with substituted alkyloxirane, alkenylcarbomonocycle, alkyl substituted alkyl alkanediol and (alkylalkenyl) aromatic salt.
P-18-0319 | 2/18/2019 | 1/29/2019 | N | (G) Plant oil fatty acids, alkyl esters.
P-18-0324 | 1/16/2019 | 12/23/2018 | N | (G) Organic acid dimethyl ester, polymer with mixed alkanediols and 5-isocyanato-1-(isocyanatomethyl)-1,3,3-trimethylcyclohexane, trimethoxysilylaklanamine-blocked.
* The term ‘Approved’ indicates that a submission has passed a quick initial screen ensuring all required information and documents have been provided with the submission.

In Table III. of this unit, EPA provides the following information (to the extent such information is not subject to a CBI claim) on the test information that have passed an initial screening by EPA during this time period: The EPA case number assigned to the test information; the date the test information was received by EPA, the type of test information submitted, and chemical substance identity.

Table III—Test Information Received From 02/01/2019 to 02/28/2019
Case No. | Received date | Type of test information | Chemical substance
P-19-0019 | 2/4/2019 | In Vitro Skin Corrosion: Reconstructed Human Epidermis (RHE) Test Method (OECD Test Guideline 431) | (G) haloalkane.
P-18-0306 | 2/6/2019 | Bacterial Reverse Mutation Test/Ames Assay (OECD Test Guideline 471) and Genetic Toxicology: Micronucleus Test (OECD Test Guideline 474) | (S) 2-propenoic acid, 2-methyl-, 2-hydroxyethyl ester, polymer with butyl 2-propenoate, ethenylbenzene and 2-oxiranylmethyl 2-methyl-2-propenoate.
P-19-0033 | 2/8/2019 | Bacterial Reverse Mutation Test/Ames Assay (OECD Test Guideline 471), Acute Oral Toxicity (OECD Test Guideline 420) | (G) sulfonium, triphenyl-, 5-(alkyl) fluoropentane derivative.
P-19-0054 | 2/12/2019 | Acute Oral Toxicity (OECD Test Guidelines 423), Acute Dermal Toxicity (OECD Test Guidelines 402), Acute Eye Irritation (OECD Test Guidelines 405), Bovine Corneal Opacity Permeability (OECD Test Guidelines 437), Acute Dermal Irritation (OECD Test Guidelines 404), In Vitro Skin Irritation (OECD Test Guidelines 439), In Vitro Skin Corrosion (OECD Test Guidelines 431), Skin Sensitization (OECD Test Guidelines 406), Bacterial Reverse Mutation Test/Ames Assay (OECD Test Guideline 471), In Vitro Mammalian Chromosome Aberration (OECD Test Guideline 473), In Vitro Mammalian Cell Gene Mutation (OECD Test Guideline 490), Combined Repeated Dose Toxicity With The Reproduction/Development Toxicity Screening Test (OECD Test Guideline 422), and Toxicokinetic Assessment | (G) polyamines, reaction products with succinic anhydride polyalkenyl derivs., metal salts, polyamines, reaction products with succinic anhydride polyalkenyl derivs., metal salts.
P-11-0264 | 2/13/2019 | Anaerobic Aquatic Metabolism (U.S. EPA Series 835—Fate, Transport And Transformation Test Guidelines OPPTS 835.4400) | (G) brominated polyphenyl ether.
P-16-0543 | 2/13/2019 | Exposure Monitoring Report | (G) halogenophosphoric acid metal salt.
P-16-0410 | 2/14/2019 | In Vitro Skin Irritation (OECD Test Guidelines 439), In Vitro Skin Corrosion (OECD Test Guidelines 431) | (G) phosphonic acid, [(hydroxycyclosiloxanediyl) alkanediyl] dialkyl ester, alkali metal salt, reaction products with alkali metal silicate.
P-18-0170 | 2/14/2019 | Bacterial Reverse Mutation Test/Ames Assay (OECD Test Guideline 471) | (S) 1-propanaminium, N,N'-(oxydi-2,1-ethanediyl)bis[3-chloro-2-hydroxy-N,N-dimethyl-, dichloride.
P-18-0128 | 2/15/2019 | In Vitro Skin Irritation (OECD Test Guidelines 439), In-Vitro Eye Irritation (OECD Test Guidelines 492) | (S) inulin, 2-hydroxy-3-(trimethylammonio)propyl ether, chloride.
P-16-0581 | 2/20/2019 | Biosolubility In Simulated Lung Fluids | (G) polysaccharide.
P-18-0321 | 2/20/2019 | In Vitro Mutagenesis Studies: 3-Test Battery, Guinea Pig Maximization Test, Acute toxicity to the marine alga Skeleto11ema costatum, Acute Toxicity to Acarna tonsa, Acute toxicity to acartia tonsa, acute toxicity to juvenile turbot, marine algal inhibition test, Ready Biodegradability (OECD Test Guidelines 301F), Toxicological tests on polyglycol E-400, Evaluation of polyglycol E-400 in the aquatic environment, skin imitation and skin sensitization, Ready Biodegradability(OECD Test Guidelines 301), EFAST Report,EPIsuite (2) Reports, IRER Results, Oncologic Profiler in OECD QSAR Toolbox Results, Justification for Hazard Determination, Sustainable Futures Summary Assessment Using P2 Framework Models, Opinion of the Scientific Panel on Food Additives, Flavourings, Processing Aids and Materials Literature Articles: Fruijtier-Polloth, Hermansky et al., Herold 1989 ADH PEGs, JECFA WHO Summary, Biodegradation of Polyethers (PG, PPG, PTMG, and Others) by Dr. Kawai, Subacute Tox and Irritation of PEG by Smyth, Chronic Oral Tox of PEGs by Smyth | (G) poly(oxy-ethanediyl), (methyl ethanediyl)bis[hydroxy-.
P-18-0124 | 2/21/2019 | Daphnid Chronic Toxicity Test (OECD Test Guidelines 202), Alga Growth Inhibition (OECD Test Guidelines 201), Fish Acute Toxicity Test, Freshwater And Marine (OECD Test Guidelines 203) | (S) lithium nickel potassium oxide.
P-05-0107 | 2/26/2019 | Aerobic Transformation In Aquatic Sediment Systems (OECD Test Guidelines 308) | (G) perfluoroalkylethyl methacrylate copolymer organic acid salt.
P-05-0075 | 2/26/2019 | Aerobic Transformation In Aquatic Sediment Systems (OECD Test Guidelines 308) | (G) perfluoroalkylethyl methacrylate copolymer.
P-06-0388 | 2/26/2019 | Aerobic Transformation In Aquatic Sediment Systems (OECD Test Guidelines 308) | (G) perfluoroalkylethylmeth-acrylate copolymer.
P-00-0281 | 2/28/2019 | Freshwater AAP Algal Medium, Daphnia Sp. Acute Immobilisation Test (OECD Test Guideline 202), A 96-Hour Static Acute Toxicity Test with The Fathead Minnow (OECD Test Guideline 203), A 96-Hour Toxicity Test with the Freshwater Alga (OECD Test Guideline 201), and Surface Tension of Aqueous Solutions (OECD Test Guideline 115) | (G) alkylarylsulfonic acid, sodium salts.

If you are interested in information that is not included in these tables, you may contact EPA's technical information contact or general information contact as described under FOR FURTHER INFORMATION CONTACT to access additional non-CBI information that may be available.

Authority: 15 U.S.C. 2601 et seq.

Dated: April 19, 2019.
Pamela Myrick,
Director, Information Management Division, Office of Pollution Prevention and Toxics.

[FR Doc. 2019-09378 Filed 5-7-19; 8:45 am]

BILLING CODE 6560-50-P